DEPARTMENT OF HOMELAND SECURITY

Bureau of Customs and Border Protection

Retraction of Revocation Notice

AGENCY: Customs Service, DHS.

ACTION: General notice.

SUMMARY: The following Customs broker license was erroneously included in a list of revoked Customs broker licenses.

Name | License | Port name
Linda K. Pettingill | 17122 | San Diego.

Customs broker license No. 17122 remains valid.

Dated: August 20, 2003.
Jayson P. Ahern,
Assistant Commissioner, Office of Field Operations.

[FR Doc. 03-22067 Filed 8-27-03; 8:45 am]

BILLING CODE 4820-02-P